DEPARTMENT OF AGRICULTURE

Food and Nutrition Service

Agency Information Collection Activities: Proposed Collection; Comment Request; Waivers Under Section 6(o) of the Food and Nutrition Act

AGENCY: Food and Nutrition Service, USDA.

ACTION: Notice.

SUMMARY: In accordance with Paperwork Reduction Act of 1995, this notice invites the general public and other public agencies to comment on proposed information collections. The proposed collection is a revision of a currently approved collection. The purpose of Section 6(o) of the Food and Nutrition Act is to establish a time limit for the receipt of benefits under the Supplemental Nutrition Assistance Program (SNAP) for certain able-bodied adults who are not working. The provision authorizes the Secretary of Agriculture, upon a State agency's request, to waive the provision for any group of individuals if the Secretary determines “that the area in which the individuals reside has an unemployment rate of over 10 percent, or does not have a sufficient number of jobs to provide employment for the individuals.”

As required in the statute, in order to receive a waiver the State agency must submit sufficient supporting information so that the United States Department of Agriculture (USDA) can make the required determination as to the area's unemployment rate or sufficiency of available jobs. This collection of information is, therefore, necessary in order to obtain waivers of the SNAP time limit.

DATES: Written comments must be received on or before November 21, 2011.

ADDRESSES: Comments are invited on: (a) Whether the proposed collection of information is necessary for the proper performance of the functions of the agency, including whether the information shall have practical utility; (b) the accuracy of the agency's estimate of the burden of the proposed collection of information including the validity of the methodology and assumptions used; (c) ways to enhance the quality, utility, and clarity of the information to be collected; (d) ways to minimize the burden of the collection of information on those who respond, including through the use of appropriate automated, electronic, mechanical, or other technological collection techniques or other forms of information technology. Comments may be sent to Angela Kline, Chief, Certification Policy Branch, Program Development Division, Food and Nutrition Service, U.S. Department of Agriculture, 3101 Park Center Drive Suite 812, Alexandria, VA 22302. Comments may also be faxed to the attention of Ms. Kline at (703) 305-2486 or sent by e-mail to Angela.Kline@fns.udsda.gov. Comments will also be accepted through the Federal eRulemaking Portal. Go to http://www.regulations.gov and follow the online instructions for submitting comments electronically.

All written comments will be open for public inspection at the office of the Food and Nutrition Service during regular business hours (8:30 a.m. to 5 p.m., Monday through Friday) at 3101 Park Center Drive, Alexandria, Virginia, 22302, Room 812. All responses to this notice will be summarized and included in the request for OMB approval. All comments will be a matter of public record.

FOR FURTHER INFORMATION CONTACT: Requests for additional information should be directed to Ms. Kline at (703) 305-2495.

SUPPLEMENTARY INFORMATION:

Title: Waivers under Section 6(o) of the Food and Nutrition Act.

OMB Number: 0584-0479.

Expiration Date: December 31, 2011.

Type of Request: Revision of a currently approved collection.

Abstract: Section 824 of the Personal Responsibility and Work Opportunity Reconciliation Act of 1996 (PRWORA), Public Law 104-193, 110 Stat. 2323 amended Section 6(o) of the Food Stamp Act of 1977 (7 U.S.C. 2015(o)) to establish a time limit for the receipt of food stamp benefits for certain able-bodied adults without dependents (ABAWDs) who are not working. This time limit is confined to adults between 18 and 50 years of age that do not have children or adults dependent upon them. ABAWD recipient eligibility is limited to three months within a 36 month period, unless the individual is working, or participating in a designated employment and training activity, for 20 hours per week. (Note: pursuant to the Food, Conservation, and Energy Act of 2008 (Pub. L. 110-234, 122 Stat. 923, enacted May 22, 2008), the Food Stamp Act was renamed the Food and Nutrition Act of 2008 and the Food Stamp Program was renamed the Supplemental Nutrition Assistance Program [SNAP].) The provision authorizes the Secretary of Agriculture, upon a State agency's request, to waive the provision for any group of individuals if the Secretary determines “that the area in which the individuals reside has an unemployment rate of over 10 percent or does not have a sufficient number of jobs to provide employment for the individuals.”

As required in the statute, in order to receive a waiver the State agency must submit sufficient supporting information so that the Secretary can make the required determination as to the area's unemployment rate or insufficiency of available jobs. This is established by State agencies demonstrating that the statewide, or a geographical region's, unemployment rate exceeds 10%, is 120% or more of the national unemployment rate, or is on Department of Labor (DOL) “trigger” list for extended unemployment insurance benefits. This collection of information is necessary in order to obtain waivers of the SNAP recipient time limit.

Based on the experience of the Food and Nutrition Service (FNS) during calendar year 2008, FNS projects that on an annual basis 48 State agencies will submit requests for waivers of the time limit for ABAWD recipients based on an insufficiency of jobs. Using unemployment projections from the Congressional Budget Office (CBO) through 2014, FNS believes that labor market conditions in 2008 would be more representative of the U.S. labor market over the next three years than would the preceding three years.

During the period from April 1, 2009 through September 30, 2010, the time limit for able-bodied adults without dependents was suspended by the American Recovery and Reinvestment Act (Pub. L. 111-5) which suspended the need for the waivers that are included in this information collection. Subsequent to September 30, 2010, most waivers were based on State eligibility for extended unemployment benefits (EB) under trigger notices issued by the U.S Department of Labor Employment and Training Administration (DOLETA).

Of the 48 State waiver requests, FNS projects that 36 waiver requests will be based on labor market data for clients in specific geographic areas within states that have an unemployment rate greater than 20 percent above the national average in that area. A typical State waiver includes several geographic areas where each geographic area may include multiple political jurisdictions. FNS projects one of the waiver requests will be based solely on the designation of areas as Labor Surplus Areas (LSAs) by the DOLETA, eleven will be statewide waivers based on entitlement to EUC based on trigger notices issued by the DOL. For waivers based on the unemployment rate of specified geographic areas within a State, FNS estimates a response time of 35 hours for each waiver request. The 35 hour time per response reflects preparation of waiver requests by the State agency which requires detailed analysis of labor markets within the State. These waivers frequently cover multiple timeframes and multi-county labor market areas. FNS projects a total burden of 1,260 hours for the 36 waivers covering specific geographic areas based on unemployment rate greater than 20 percent above the national average. For the waiver based solely on LSA designation and the 11 estimated waivers based on trigger notices, FNS estimates a burden of 48 hours or four hours per waiver since the data supporting these waivers is readily available from the DOL Web site and requires minimal preparation by the State agencies. FNS projects a total burden of 1,308 hours for this information collection, a reduction of 372 hours from the prior approved information collection burden of 1,680 hours. There is no specific recordkeeping requirement directly associated with this information collection.

OMB # 0584-0479 | Requirement | Estimated number respondents | Response annually per respondent | Total annual responses | Hours per response | Annual burden hours
Affected Public:
State Agencies
Reporting Burden | Submission of waiver request based on labor market data | 36 | 1 | 36 | 35 | 1,260
| Submission of waiver request based on Labor Surplus Area designation | 1 | 1 | 1 | 4 | 4
| Submission of waiver request based on DOL trigger notices | 11 | 1 | 4 | 4 | 44
| Reporting Totals | 48 |  | 48 |  | 1308
Recordkeeping Burden | Recordkeeping | 0 | 0 | 0 | 0 | 0
| Recordkeeping Totals | 0 | 0 | 0 | 0 | 0
| Total Recordkeeping and Reporting Burden | 48 |  | 48 |  | 1308

Dated: September 12, 2011.
Audrey Rowe,
Administrator, Food and Nutrition Service.

[FR Doc. 2011-24086 Filed 9-19-11; 8:45 am]

BILLING CODE 3410-30-P